DEPARTMENT OF COMMERCE

Census Bureau

Agency Information Collection Activities; Submission to the Office of Management and Budget (OMB) for Review and Approval; Comment Request; 2025 Census Household Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. This notice allows for 30 days for public comments.

Agency: U.S. Census Bureau, Commerce.

Title: 2025 Census Household Survey.

Form Number(s): None. All information will be collected electronically.

Type of Request: Regular submission.

Number of Respondents: 100,000.

Average Hours per Response: 10 minutes.

Burden Hours: 6,667.

Needs and Uses: The U.S. Census Bureau conducts surveys of individuals, households, and businesses to provide quality data about our nation's people and economy. Many Census Bureau surveys offer the option of responding to the survey online. The Census Bureau understands the critical importance of protecting the data provided by our survey respondents, while offering them a familiar, efficient, and manageable user experience. The Census Bureau hopes to achieve these goals through the adoption of industry best practices and popular solutions in use across the internet.

One element of a user's online survey response experience is logging in to the survey. The Census Bureau plans to request Office or Management and Budget (OMB) approval to conduct a test of various log in and authentication methods for surveys that would offer additional protection to respondent data, while facilitating respondents' ability to return to the survey on multiple occasions without having to re-enter data. This test is referred to as the 2025 Census Household Survey Test.

The Census Bureau proposes to test four log in and authentication methods: the current log in method used by surveys like the American Community Survey (ACS) and three additional methods. The current method requires users to enter a 12-digit code that is sent to them in the mail from the Census Bureau in addition to the use of a generated 4-digit PIN for re-entry, with security questions for individuals who forget their PIN. The three additional methods require user verification through a two-factor authentication process, where a user would provide information like an email, phone number, or account log in (e.g., Microsoft) and then enter an 8-digit verification code that has been sent to them in email or text in addition to a 12-digit code that has been mailed to them by the Census Bureau.

The test will study which industry-standard authentication methods works best for respondents in a dependent survey response setting by measuring log in success. The test will be designed to measure log in success for subpopulations, including historically undercounted populations.

Affected Public: Individuals or households.

Frequency: This is a one-time survey.

Respondent's Obligation: Voluntary.

Legal Authority: Title 13, U.S. Code, Section 193.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0971.

Sheleen Dumas,
Departmental PRA Clearance Officer, Office of the Under Secretary for Economic Affairs, Commerce Department.

[FR Doc. 2024-24387 Filed 10-21-24; 8:45 am]

BILLING CODE 3510-07-P